DEPARTMENT OF LABOR

Office of the Secretary

Submission for OMB Review; Comment Request

September 21, 2004.

The Department of Labor (DOL) has submitted the following public information collection request (ICR) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Ira Mills on (202) 693-4122 (this is not a toll-free number) or e-mail: mills.ira@dol.gov.

Comments should be sent to Office of Information and Regulatory Affairs, Attn: OMB Desk Officer for DOL, Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of a currently approved collection.

Title: Resource Justification Model.

OMB Number: 1205-0430.

Frequency: Annually.

Affected Public: State, local, or tribal government; Federal Government.

Cite/reference | Total respondents | Frequency | Total responses | Average time per response (hours) | Burden (hours)
Crosswalk | 53 | Annually | 53 | 120 | 6,360
Account Summary | 53 | Annually | 53 | 4 | 212
RJM 1 through 6 series | 53 | Annually | 53 | 3 | 159
Narrative | 53 | Annually | 53 | 8 | 424
Totals |  |  | 212 | 33.75 | 7,155

Total Burden Hours: 7,155.

Total Annualized Capital/Startup Costs: $0.

Total Annual Costs (Operating/Maintaining Systems or Purchasing Services): $375,000.

Description: This program would replace the current methodologies for budget formulation and grant allocation to the states for unemployment insurance program.

Ira L. Mills,
Departmental Clearance Officer.

[FR Doc. 04-21657 Filed 9-27-04; 8:45 am]

BILLING CODE 4510-30-P